DEPARTMENT OF AGRICULTURE

Forest Service

Notice of Madison-Beaverhead Advisory Committee Meeting

AGENCY: Forest Service, USDA.

ACTION: Notice of meetings.

SUMMARY: Pursuant to the authorities in the Federal Advisory Committee Act (Pub. L. 92-463) and the Secure Rural Schools and Community Self-Determination Act of 2000 (Pub. L. 106-393), the Beaverhead-Deerlodge National Forest's Madison-Beaverhead Resource Advisory Committee will meet on Thursday, July 22, 2004, from 10 a.m. until 4 p.m. in Alder, Montana, and on Tuesday, August 24, 2004, in Dillon, Montana, for business meetings. The meetings are open to the public.

DATES: The meeting dates are:

1. July 22, 2004, 10 a.m. to 4 p.m., Alder, MT.

2. August 24, 3004, 10 a.m. to 4 p.m., Dillion, MT.

ADDRESSES: The meeting locations are:

1. Alder—Fire Department Hall, south of Highway 287, Alder, MT 59710.

2. Dillion—4H Building, Beaverhead County Fairgrounds, Railroad Street, Dillion, MT 59725.

FOR FURTHER INFORMATION CONTACT: Thomas K. Reilly, Designated Forest Official (DFO), Forest Supervisor, Beaverhead-Deerlodge National forest, at (406) 683-3973.

SUPPLEMENTARY INFORMATION: Agenda topics for these meetings include hearing and deciding on proposals for projects to fund under Title II of Pub. L. 106-393, hearing public comments, and other business. If the meeting locations change, notice will be posted in local newspapers, including the Dillon Tribune and the Montana Standard.

Dated: June 28, 2004.
Thomas K. Reilly,
Forest Supervisor.

[FR Doc. 04-15068 Filed 7-1-04; 8:45 am]

BILLING CODE 3410-11-M